DEPARTMENT OF HEALTH AND HUMAN SERVICES

Food and Drug Administration

[Docket No. FDA-2009-D-0348]

Draft Guidance for Industry: Guide to Minimize Microbial Food Safety Hazards of Leafy Greens; Availability; Correction

AGENCY: Food and Drug Administration, HHS.

ACTION: Notice; correction.

SUMMARY: The Food and Drug Administration is correcting a notice that appeared in the Federal Register of August 3, 2009 (74 FR 38439). The document announced the availability of a draft guidance entitled “Guidance for Industry: Guide to Minimize Microbial Food Safety Hazards of Leafy Greens.” The document was published with an incorrect date for submitting written or electronic comments on the draft guidance. This document corrects that error.

FOR FURTHER INFORMATION CONTACT: Amy Green, Center for Food Safety and Applied Nutrition (HFS-317), Food and Drug Administration, 5100 Paint Branch Pkwy., College Park, MD 20740, 301-436-2025.

SUPPLEMENTARY INFORMATION: In FR Doc. E9-18451, appearing on page 38439 in the Federal Register of August 3, 2009, the following correction is made:

1. On page 38439, in the third column, in the “DATES” section, in the eighth line, “October 2, 2009” is corrected to read “November 2, 2009”.

Dated: August 17, 2009.
David Horowitz,
Assistant Commissioner for Policy.

[FR Doc. E9-20101 Filed 8-20-09; 8:45 am]

BILLING CODE 4160-01-S